DEPARTMENT OF AGRICULTURE

Forest Service

Ozark-Ouachita Resource Advisory Committee

AGENCY: Forest Service, USDA.

ACTION: Notice of meeting.

SUMMARY: The Ozark-Ouachita Resource Advisory Committee (RAC) will meet in Russellville, Arkansas. The committee is authorized under the Secure Rural Schools and Community Self-Determination Act (the Act) and operates in compliance with the Federal Advisory Committee Act. The purpose of the committee is to improve collaborative relationships and to provide advice and recommendations to the Forest Service concerning projects and funding consistent with the Act. RAC information can be found at the following Web site: https://cloudapps-usda-gov.secure.force.com/FSSRS/RAC_Page?id=001t0000002JcwBAAS.

DATES: The meeting will be held on August 22, 2017, beginning at 2:00 p.m., Central Standard Time.

All RAC meetings are subject to cancellation. For status of meeting prior to attendance, please contact the person listed under For Further Information Contact.

ADDRESSES: The meeting will be held at the Ozark-St. Francis National Forests (NF) Supervisor's Office, 605 West Main, Russellville, Arkansas. Participants who would like to attend by teleconference please contact the person listed under For Further Information Contact.

Written comments may be submitted as described under Supplementary Information. All comments, including names and addresses when provided, are placed in the record and are available for public inspection and copying. The public may inspect comments received at Ouachita NF Supervisor's Office. Please call ahead to facilitate entry into the building.

FOR FURTHER INFORMATION CONTACT: Caroline Mitchell, RAC Coordinator, by phone at 501-321-5318 or via email at carolinemitchell@fs.fed.us; or Terry Krasko, Designated Federal Officer, by phone at 479-964-7234 or via email at tkrasko@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to review and recommend project proposals for Title II funds.

The meeting is open to the public. The agenda will include time for people to make oral statements of three minutes or less. Individuals wishing to make an oral statement should request in writing by August 15, 2017, to be scheduled on the agenda. Anyone who would like to bring related matters to the attention of the committee may file written statements with the committee staff before or after the meeting. Written comments and requests for time for oral comments must be sent to Caroline Mitchell, RAC Coordinator, Ouachita NF Supervisor's Office, Post Office Box 1270, Hot Springs, Arkansas; or via facsimile to 501-321-5399.

Meeting Accommodations: If you are a person requiring reasonable accommodation, please make requests in advance for sign language interpreting, assistive listening devices, or other reasonable accommodation. For access to the facility or proceedings, please contact the person listed in the section titled For Further Information Contact. All reasonable accommodation requests are managed on a case-by-case basis.

Dated: July 17, 2017.
Jeanne M. Higgins,
Acting Associate Deputy Chief, National Forest System.

[FR Doc. 2017-16937 Filed 8-10-17; 8:45 am]

BILLING CODE 3411-15-P